DEPARTMENT OF TRANSPORTATION

Federal Aviation Administration

14 CFR Parts 121, 125, and 135

[Docket No. FAA-2003-15682; Amendment Nos. 121-300 125-42, 135-89]

RIN 2120-AH89

Digital Flight Data Recorder Requirements—Changes to Recording Specifications and Additional Exceptions; Correction

AGENCY: Federal Aviation Administration (FAA), DOT.

ACTION: Final rule; correction.

SUMMARY: This document corrects amendment numbers assigned in the final rule published in the Federal Register on July 18, 2003. That action amended the flight data recorder regulations by expanding the recording specifications of certain data parameters for specified airplanes, and by adding aircraft models to the lists of aircraft excepted from the 1997 regulations.

EFFECTIVE DATE: This correction is effective on February 11, 2004.

FOR FURTHER INFORMATION CONTACT: Gary Davis, telephone (202) 267-8166.

Correction

In the correction to the final rule FR Doc. 03-18269, published on July 18, 2003 (68 FR 42932), make the following correction:

1. On page 42932 in column one, in the heading section beginning on line 4, correct “Amendment Nos. 121-288, 125-42, 135-84” to read “Amendment Nos. 121-300, 125-42, 135-89”.

Issued in Washington, DC on January 30, 2004.
Donald P. Byrne,
Assistant Chief Counsel for Regulations.

[FR Doc. 04-2876 Filed 2-10-04; 8:45 am]

BILLING CODE 4910-13-U